FEDERAL MINE SAFETY AND HEALTH REVIEW COMMISSION

Temporary Suspension of In-Person Hearings

AGENCY: Federal Mine Safety and Health Review Commission.

ACTION: Notice.

SUMMARY: The Federal Mine Safety and Health Review Commission (the “Commission”) is temporarily suspending in-person hearings, settlement judge conferences, and mediations in the manner described below until December 31, 2021.

DATES: Applicable: August 6, 2021.

FOR FURTHER INFORMATION CONTACT: Sarah Stewart, Deputy General Counsel, Office of the General Counsel, Federal Mine Safety and Health Review Commission, at (202) 434-9935.

SUPPLEMENTARY INFORMATION: On July 30, 2021, Commission Chief Administrative Law Judge Glynn F. Voisin issued an order, which is posted on the Commission's website (www.fmshrc.gov). The contents of the order were also published in the Federal Register. 86 FR 42,827 (Aug. 5, 2021). Under the terms of that order, the Commission was going to resume the pre-pandemic norm of in-person hearings as of September 1, 2021.

On August 6, 2021, Chief Judge Voisin issued an order supplementing the July 30 order. The contents of the August 6 order are set forth in this notice.

In view of recently updated guidance from the Centers for Disease Control and Prevention (“CDC”) highlighting the risks presented by the novel coronavirus COVID-19 and especially its rapidly spreading delta variant, the Federal Mine Safety and Health Review Commission, Office of the Chief Administrative Law Judge (OCALJ) is, effective immediately, strongly discouraging the scheduling of in-person hearings, settlement judge conferences and mediations until December 31, 2021. At the discretion of the presiding Administrative Law Judge and in coordination with the parties, such proceedings may be held by videoconference or by telephone.

In the event a Judge determines in-person proceedings are necessary for all or part of a hearing, settlement conference or mediation, he or she will seek authorization of Chief Judge Voisin prior to scheduling any such proceeding. Such authorization should only be sought where absolutely necessary and is unlikely to be granted absent an extraordinarily compelling need and strict protocols ensuring the safety of all in attendance. No party, representative or witness shall be compelled to attend an in-person hearing or conference during the pendency of this order.

The presiding administrative law judge may be contacted with questions regarding this notice.

Authority: 30 U.S.C. 823; 29 CFR part 2700.

Dated: August 6, 2021.
Sarah L. Stewart,
Deputy General Counsel, Federal Mine Safety and Health Review Commission.

[FR Doc. 2021-17152 Filed 8-11-21; 8:45 am]

BILLING CODE 6735-01-P